EXPORT-IMPORT BANK OF THE UNITED STATES

Economic Impact Policy

This notice is to inform the public that the Export-Import Bank of the United States has received an application to provide short-term insurance support for a $12 million revolving credit line for the export of U.S. foundry tooling equipment to Mexico. The U.S. exports will enable the Mexican company to produce up to 8 million automotive engine heads and 1.3 million automotive engine blocks per year. The majority of the Mexican production is expected to be consumed in the United States. Available information indicates that the bulk, if not all, of U.S. production of automotive engine heads and engine blocks is performed by U.S. auto manufacturers at proprietary facilities for their own consumption. Interested parties may submit comments on this transaction by e-mail to economic.impact@exim.gov or by mail to 811 Vermont Avenue, NW., Room 1238, Washington, DC 20571, within 14 days of the date this notice appears in the Federal Register.

Jonathan J. Cordone,
Senior Vice President and General Counsel.

[FR Doc. 2010-10569 Filed 5-4-10; 8:45 am]

BILLING CODE 6690-01-P